DEPARTMENT OF AGRICULTURE

Animal and Plant Health Inspection Service

[Docket No. APHIS-2007-0060]

Emerald Ash Borer; Availability of an Environmental Assessment

AGENCY: Animal and Plant Health Inspection Service, USDA.

ACTION: Notice of availability and request for comments.

SUMMARY: We are advising the public that an environmental assessment has been prepared by the Animal and Plant Health Inspection Service relative to the release of three insect parasitoid species for the biological control of the emerald ash borer Agrilus planipennis. The environmental assessment documents our review and analysis of environmental impacts associated with the release of these biological control agents. We are making this environmental assessment available to the public for review and comment.

DATES: We will consider all comments that we receive on or before June 22, 2007.

ADDRESSES: You may submit comments by either of the following methods:

• Federal eRulemaking Portal: Go to http://www.regulations.gov, select “Animal and Plant Health Inspection Service” from the agency drop-down menu, then click “Submit.” In the Docket ID column, select APHIS-2007-0060 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0060, Regulatory Analysis and Development, PPD, APHIS, Station 3A-03.8, 4700 River Road Unit 118, Riverdale, MD 20737-1238. Please state that your comment refers to Docket No. APHIS-2007-0060.

Reading Room: You may read any comments that we receive on the environmental assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Juli Gould, Entomologist, Otis Pest Survey, Detection, and Exclusion Laboratory, PPQ, APHIS, Building 1398, Otis ANGB, MA 02542-5008; (508) 563-9303 ext. 220.

SUPPLEMENTARY INFORMATION:

Background

The emerald ash borer (EAB) (Agrilus planipennis) is a destructive woodboring insect that attacks ash trees (Fraxinus spp., including green ash, white ash, black ash, and several horticultural varieties of ash). The insect, which is indigenous to Asia and known to occur in China, Korea, Japan, Mongolia, the Russian Far East, Taiwan, and Canada, eventually kills healthy ash trees after it bores beneath their bark and disrupts their vascular tissues.

The EAB regulations in 7 CFR 301.53-1 through 301.53-9 restrict the interstate movement of regulated articles from quarantined areas to prevent the artificial spread of EAB into noninfested areas of the United States. The States of Illinois, Indiana, and Ohio and portions of the State of Michigan are currently designated as quarantined areas. We are also in the process of establishing a quarantine in Prince George's County, MD.

Despite State and Federal quarantines designed to contain EAB, the lack of effective methods to detect EAB-infested trees and the large area of EAB infestation has resulted in a shift in strategy by regulatory agencies from area-wide eradication to eradication in outlying areas and containment in the core infestation area. In the United States, EAB eradication efforts involve the removal of all ash trees within a specified radius around known infestations. However, by the time an infestation is discovered and treated, EAB has usually already dispersed outside the eradication zone. Besides natural dispersal, the spread of EAB has been accelerated through human-assisted movement of infested ash firewood, timber, solid wood packing materials, and nursery stock. As EAB spreads throughout North America, regulatory agencies, land managers, and the public are seeking sustainable management tools such as biological control to reduce EAB population densities and to slow its spread.

APHIS has completed an environmental assessment that examines the potential effects on the quality of the human environment that may be associated with the release of three specific biological control agents to control infestations of EAB within the continental United States. APHIS and the Forest Service propose to release the three parasitoids into the environment of the continental United States for the purpose of reducing EAB populations. These parasitoids are known to attack EAB consistently in its native habitat in China. Initial releases of each parasitoid are planned for summer 2007. Post-release monitoring of the spread and establishment of each parasitoid species and impacts on EAB and non-target wood-boring beetles will also be conducted.

APHIS' review and analysis of the potential environmental impacts associated with this biological control action are documented in detail in an environmental assessment entitled “Proposed Release of Three Parasitoids for the Biological Control of the Emerald Ash Borer (Agrilus planipennis) in the Continental United States” (April 2, 2007). We are making this environmental assessment available to the public for review and comment. We will consider all comments that we receive on or before the date listed under the heading DATES at the beginning of this notice.

The environmental assessment may be viewed on the Regulations.gov Web site or in our reading room (see ADDRESSES above for instructions for accessing Regulations.gov and information on the location and hours of the reading room). You may request paper copies of the environmental assessment by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 17th day of May 2007 .
Kevin Shea,
Acting Administrator, Animal and Plant Health Inspection Service.

[FR Doc. E7-9895 Filed 5-22-07; 8:45 am]

BILLING CODE 3410-34-P